Title 3—

The President

Proclamation 8918 of December 17, 2012

Wright Brothers Day, 2012

By the President of the United States of America

A Proclamation

After years of research and experimentation, 12 seconds of powered flight over the hills of Kitty Hawk, North Carolina, vindicated the passion and resolve with which Wilbur and Orville Wright pursued their lifelong dream. Like so many Americans before and after them, these two men achieved the unthinkable, and their achievements changed our way of life. On Wright Brothers Day, we reflect on their astonishing feat and celebrate the ambition it still inspires more than a century later.

Wilbur and Orville Wright were the kind of entrepreneurs Americans everywhere root for. Their inspiration sparked from their mother, Susan—a gifted mathematician in her own right who challenged her children to think big and dream bold. The brothers overcame years of personal hardship to open their own bicycle shop in Dayton, Ohio, quickly improving on the designs of the bikes they sold and eventually expanding to manufacture their own models. As they mastered their craft, they turned their attention skyward. Similar stories of resilient, canny entrepreneurship have unfolded throughout our Nation's history—from the founding of our airlines and auto industry to the growth of our research institutions and small businesses. While each journey has been unique, all have advanced that same brand of rugged determination to stay ahead of the curve and keep America moving forward.

With their game-changing feat, the Wright brothers earned their place in history as innovators who helped trigger America's rise as an economic superpower, and whose example inspired the kind of businesses and industries that built and grew our middle class. As we mark Wright Brothers Day, let us carry their legacy forward by taking on new challenges with tenacity and meeting our hardships with courage, confident that our shared future is bright and our best days are still ahead.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, BARACK OBAMA, President of the United States of America, do hereby proclaim December 17, 2012, as Wright Brothers Day.

IN WITNESS WHEREOF, I have hereunto set my hand this seventeenth day of December, in the year of our Lord two thousand twelve, and of the Independence of the United States of America the two hundred and thirty-seventh.

[FR Doc. 2012-30894

Filed 12-19-12; 11:15 am]

Billing code 3295-F3